FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 002723NF.

Name: Air-Oceanic Services, Inc.

Address: 11010 NW 92nd Terrace, Ste. A, Miami, FL 33178.

Date Revoked: October 6, 2007.

Reason: Failed to maintain valid bonds.

License Number: 002461F.

Name: Cargo Forwarding Inc.

Address: 385 Blackberry Street, Stamford, NY 12167.

Date Revoked: October 19, 2007.

Reason: Surrendered license voluntarily.

License Number: 009847N.

Name: Con-Trand Services, Inc.

Address: 3025 Roy Orr Blvd., Grand Prairie, TX 75050.

Date Revoked: September 27, 2007.

Reason: Failed to maintain a valid bond.

License Number: 016290F.

Name: Delmar Logistics, Inc.

Address: 9310 La Cienega Blvd., Inglewood, CA 90301.

Date Revoked: September 1, 2007.

Reason: Surrendered license voluntarily.

License Number: 019722N.

Name: Darpex Import/Export Corporation.

Address: 8225 NW 80th Street, Miami, FL 33166.

Date Revoked: September 27, 2007.

Reason: Failed to maintain a valid bond.

License Number: 018437NF.

Name: Delmar Logistics (IL), Inc.

Address: 1555 Mittel Blvd., Suite R, Wood Dale, IL 60191.

Date Revoked: September 1, 2007.

Reason: Surrendered license voluntarily.

License Number: 008813N.

Name: International Intermodal Express, Ltd.

Address: 1111 Broadway, Oakland, CA 94607.

Date Revoked: July 19, 2007.

Reason: Failed to maintain a valid bond.

License Number: 018821N.

Name: J Eastern Transport International, Inc. dba Eastern Transport International.

Address: 555 W. Redondo Beach Blvd., #203, Gardena, CA 90248.

Date Revoked: September 30, 2007.

Reason: Surrendered license voluntarily.

License Number: 013532N.

Name: Joint Bright Corporation dba Premier Shipping Company.

Address: 2225 W. Commonwealth Ave., Ste., 110, Alhambra, CA 91803.

Date Revoked: October 7, 2007.

Reason: Failed to maintain a valid bond.

License Number: 018914N.

Name: Professional Service Shipping, Inc. dba Proserve Shipping Company.

Address: 700 Rockaway Turnpike, Ste. 205, Lawrence, NY 11559.

Date Revoked: October 13, 2007.

Reason: Failed to maintain a valid bond.

License Number: 006313N.

Name: Puerto Rico Freight Systems, Inc.

Address: Edificio 11, Central Mercantil Zona Libre, Guanaybo, PR 00965.

Date Revoked: July 14, 2007.

Reason: Failed to maintain a valid bond.

License Number: 004462F.

Name: R S Exports, Inc.

Address: 11914 Aviation Blvd., Suite A, Inglewood, CA 90304.

Date Revoked: September 29, 2007.

Reason: Failed to maintain a valid bond.

License Number: 020363N.

Name: Ultimate Lines, Inc.

Address: 1026 Hickory Street, 3rd Fl., Kansas City, MO 64101.

Date Revoked: October 7, 2007.

Reason: Failed to maintain a valid bond.

Sandra L. Kusumoto,
Director, Bureau of Certification and Licensing.

[FR Doc. E7-21459 Filed 10-30-07; 8:45 am]

BILLING CODE 6730-01-P